DEPARTMENT OF AGRICULTURE

Agricultural Marketing Service

[Docket Number FV-04-301]

United States Standards for Grades of Greenhouse Tomatoes

AGENCY: Agricultural Marketing Service, USDA.

ACTION: Notice.

SUMMARY: The Agricultural Marketing Service (AMS), prior to undertaking research and other work associated with revising official grade standards, is soliciting comments on the petition to revise the United States Standards for Grades of Greenhouse Tomatoes. At a recent meeting of the Fruit and Vegetable Industry Advisory Committee, AMS was asked to review all fresh fruit and vegetable grade standards for usefulness in serving the industry. As a result, AMS has noted that the method for determining percentages of defects and size classifications for greenhouse tomatoes needs to be revised to stay in line with current marketing practices. Additionally, AMS is seeking comments regarding any other revisions that may be necessary to better serve the industry.

DATES: Comments must be received by February 9, 2004.

ADDRESSES: Interested persons are invited to submit written comments to the Standardization Section, Fresh Products Branch, Fruit and Vegetable Programs, Agricultural Marketing Service, U.S. Department of Agriculture, 1400 Independence Ave., SW., Room 1661, South Building, Stop 0240, Washington, DC 20250-0240; fax (202) 720-8871, e-mail FPB.DocketClerk@usda.gov. Comments should make reference to the dates and page number of this issue of the Federal Register and will be made available for public inspection in the above office during regular business hours.

FOR FURTHER INFORMATION CONTACT: David L. Priester, at the above address, or call (202) 720-2185; e-mail David.Priester@usda.gov.

SUPPLEMENTARY INFORMATION: At a recent meeting of the Fruit and Vegetable Industry Advisory Committee, AMS was asked to review all fresh fruit and vegetable grade standards for usefulness in serving the industry. AMS has identified the United States Standards for Grades of Greenhouse Tomatoes for possible revision. These standards were last revised in 1966. Since that time, marketing and packaging practices have changed. The current standards state that the size of greenhouse tomatoes and the percentage of defects shall be determined by weight. Currently however, greenhouse tomatoes are packed and marketed in a variety of methods, typically based on size or count. Prior to undertaking detailed work to develop the proposed revised standards, AMS is soliciting comments on the possible revision of the standards for grades of greenhouse tomatoes and the probable impact on distributors, processors, and growers.

This notice provides for a 60-day comment period for interested parties to comment on changes to the standards. Should AMS proceed with revising the standards, the proposed revision of the standards will be published in the Federal Register with a request for comments in accordance with 7 CFR part 36.

Authority: 7 U.S.C. 1621-1627.

Dated: December 4, 2003.
A.J. Yates,
Administrator, Agricultural Marketing Service.

[FR Doc. 03-30602 Filed 12-9-03; 8:45 am]

BILLING CODE 3410-02-P